DEPARTMENT OF TRANSPORTATION

National Highway Traffic Safety Administration

[Docket No. NHTSA-2002-13539]

Notice of Receipt of Petition for Decision That Nonconforming 1989-1994 Honda CBR 250 Motorcycles Are Eligible for Importation

AGENCY: National Highway Traffic Safety Administration, DOT.

ACTION: Notice of receipt of petition for decision that nonconforming 1989-1994 Honda CBR 250 motorcycles are eligible for importation.

SUMMARY: This document announces receipt by the National Highway Traffic Safety Administration (NHTSA) of a petition for a decision that 1989-1994 Honda CBR 250 motorcycles that were not originally manufactured to comply with all applicable Federal motor vehicle safety standards are eligible for importation into the United States because they have safety features that comply with, or are capable of being altered to comply with, all such standards.

DATES: The closing date for comments on the petition is November 27, 2002.

ADDRESSES: Comments should refer to the docket number and notice number, and be submitted to: Docket Management, Room PL 401, 400 Seventh St., SW., Washington, DC 20590. [Docket hours are from 9 a.m. to 5 p.m.]

FOR FURTHER INFORMATION CONTACT: Luke Loy, Office of Vehicle Safety Compliance, NHTSA (202-366-5308).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Northern California Diagnostic Laboratories, Inc. of Napa, California (”NCDL”)(Registered Importer 92-011) has petitioned NHTSA to decide whether non-U.S. certified 1989-1994 Honda CBR 250 motorcycles are eligible for importation into the United States. NCDL contends that these vehicles are eligible for importation under 49 U.S.C. 30141(a)(1)(B) because they have safety features that comply with, or are capable of being altered to comply with, all applicable Federal motor vehicle safety standards.

Specifically, the petitioner claims that non-U.S. certified 1989-1994 Honda CBR 250 motorcycles have safety features that comply with Standard Nos. 106 Brake Hoses, 111 Rearview Mirrors, 116 Brake Fluid, 119 New Pneumatic Tires for Vehicles other than Passenger Cars, 122 Motorcycle Brake Systems, and 205 Glazing Materials.

The petitioner also states that vehicle identification number (VIN) plates that meet the requirements of 49 CFR Part 565 have been affixed to non-U.S. certified 1989-1994 Honda CBR 250 motorcycles.

Petitioner additionally contends that the vehicles are capable of being altered to meet the following standards, in the manner indicated below:

Standard No. 108 Lamps, Reflective Devices and Associated Equipment: installation of headlamp bulbs, amber front side reflectors, and red rear side reflectors that conform to the requirements of the standard. The petitioner states that the vehicles are already equipped with a tail lamp system, a stop lamp system, a white license plate lamp, and turn signals that conform to the standard.

Standard No. 120 Tire Selection and Rims for Vehicles other than Passenger Cars: Installation of a label showing that the tires and rims are in conformity with the requirements of the standard.

Standard No. 123 Motorcycle Controls and Displays: modification of the speedometer to read in miles per hour. The petitioner states that the vehicles are already equipped with a supplemental engine stop control on the right handlebar and other controls and displays that are in conformity with the requirements of the standard.

Comments should refer to the docket number and be submitted to: Docket Management, Room PL-401, 400 Seventh Street, SW., Washington, DC 20590. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on October 23, 2002.
Marilynne Jacobs,
Director, Office of Vehicle Safety Compliance.

[FR Doc. 02-27390 Filed 10-25-02; 8:45 am]

BILLING CODE 4910-59-P